DEPARTMENT OF AGRICULTURE

Forest Service

USDA-Forest Service/Spalding Land Exchange and Special Use Permit Environmental Impact Statement and Lassen National Forest Plan Amendment, Lassen National Forest, Lassen County, CA

AGENCY: Forest Service, USDA.

ACTION: Notice of availability of draft environmental impact statement.

SUMMARY: The U.S. Department of Agriculture, Forest Service, Lassen National Forest, wishes to advise the public of availability of a DRAFT Environmental Impact Statement (DEIS) for a proposed land exchange between the Spalding Community Services District (SCDS) and the Lessen National Forest, Lassen County, CA. Approval would include the transfer of approximately 57.21 acres of Federal lands encompassing one 52.50 acre parcel and one 4.71 acres parcel, and also includes a non-significant minor amendment to the “Lassen National Forest Land and Resource Management Plan” (LRMP), and authorization of a special use of National Forest System Lands for water and sewer pipeline corridors, and an access road totaling approximately 2.7 acres. Details on the proposed action, location and areas of environmental concern addressed in the DEIS are provided in the SUPPLEMENTARY INFORMATION section.

DATES: Submit comments on or before close of business on May 27, 2003 at the address listed below.

The final EIS is scheduled for completion in June 2003.

ADDRESSES: You may submit comments to the responsible official: Edward C. Cole, Forest Supervisor, Lassen National Forest, 2550 Riverside Drive, Susanville, CA 96130.

To obtain a copy of the DEIS or for further information contact: Lois Charlton, Forest Lands Officer, Lassen National Forest, 2550 Riverside Drive, Susanville, CA 96130. Telephone (530) 257-2151.

SUPPLEMENTARY INFORMATION: Forest Service (lead agency) is proposing an equal value exchange of federal land with the SCSD for one SCSD parcel and third party private lands. If the values are unequal, either party may equalize the values by making a cash payment not to exceed 25 percent of the value of the lands transferred out of Federal ownership. The Forest Service is initiating this action in response to a request by SCSD to acquire lands to accommodate construction and operation of a wastewater collection and treatment facility. The federal lands are from the Lassen National Forest (57.21 acres). Lands the SCSD may potentially exchange include up to eleven parcels listed in order of priority for acquisition (Lassen County Assessor Parcel Numbers 077-303-21; 075-120-14, -15, 075-130-11, 075-080-17; and Plumas County Assessor Parcel Numbers 009-190-006; 010-010-029, -030; and 005-220-018, -019, -020). Acquisition of these parcels would improve access to National Forest System Lands, eliminate one or more in-holdings, and add wetland habitat to the Lassen National Forest. Approval of the land exchange would also include a non-significant minor amendment to the Lassen LRMP, and authorization of a special use of National Forest System Lands for water and sewer pipeline corridors and an access road totaling approximately 2.7 acres. The DEIS analyses the environmental impacts of this proposal as well as the “no action” alternative.

Comments received in response to this solicitation, including names and addresses of those who comment, will be considered part of the public record on this proposed action and will be available for public inspection. Comments submitted anonymously will be accepted and considered. Additionally, pursuant to 7 CFR 1.27(d), any person may request the agency to withhold a submission to the public record by showing how the Freedom of Information (FOIA) permits such confidentiality should be aware that, under the FOIA, confidentiality may be granted in only very limited circumstances, such as to protect trade secrets. The Forest Service will inform the requester of the agency's decision regarding the request for confidentiality, and where the request is denied, the agency will return the submission and notify the requester that the comments may be resubmitted with or without name and address.

Reviewers should provide the Forest Service with their comments during the review period of the DEIS. This will enable the Forest Service to analyze and respond to the comments at one time and to use information acquired in the preparation of the final environmental impact statement, thus avoiding undue delay in the decision making process. Reviewers have an obligation to structure their participation in the National Environmental Policy Act process so that it is meaningful and alerts the agency to the reviewers' position and contentions. Vermont Yankee Nuclear Power Corp. v. NRDC, 435 U.S. 519, 553 (1978). Environmental objections that could have been raised at the draft stage may be waived if not raised until after completion of the final environmental impact statement. City of Angoon v. Hodel (9th Circuit, 1986) and Wisconsin Heritages, Inc. v. Harris, 490 F. Supp. 1334, 1338 (E.D. Wis. 1980). Comments on the DEIS should be specific and should address the adequacy of the statement and the merits of the alternatives discussed (40 CFR 1503.3).

Dated: March 21, 2003.
Edward C. Cole,
Forest Supervisor, Lassen National Forest.

[FR Doc. 03-8804 Filed 4-9-03; 8:45 am]

BILLING CODE 3410-11-M